DEPARTMENT OF AGRICULTURE

Forest Service

Land Management Plan Direction for Old-Growth Forest Conditions Across the National Forest System; Withdrawal

AGENCY: Forest Service, Department of Agriculture.

ACTION: Notice; withdrawal.

SUMMARY: The United States Department of Agriculture is withdrawing its notice of intent to prepare an environmental impact statement (EIS) for the Land Management Plan Direction for Old-Growth Forest Conditions Across the National Forest System.

FOR FURTHER INFORMATION CONTACT: Jennifer McRae, Planning Team Leader, at 202-791-8488.

Individuals who use telecommunications devices for the hearing impaired may call 711 to reach the Telecommunications Relay Service, 24 hours a day, every day of the year, including holidays.

Christopher French,
Deputy Chief, National Forest System.

[FR Doc. 2025-00390 Filed 1-8-25; 8:45 am]

BILLING CODE 3411-15-P